DEPARTMENT OF HEALTH AND HUMAN SERVICES

National Institutes of Health

National Cancer Institute Amended; Notice of Meeting

Notice is hereby given of a change in the meeting of the National Cancer Institute Special Emphasis Panel, August 6, 2018, 10:00 a.m. to August 6, 2018, 05:00 p.m., National Cancer Institute Shady Grove, 9609 Medical Center Drive, 7W102, Rockville, MD 20850 which was published in the Federal Register on June 08, 2018, 83 FR 26703.

This meeting notice is amended to change the contact person from Dr. Shakeel Ahmad to Dr. Jun Fang. The meeting date has changed from August 6, 2018 to August 16, 2018. The meeting room has changed from 7W102 to 7W246. The meeting times are the same. The meeting is closed to the public.

Dated: July 10, 2018.
Melanie J. Pantoja,
Program Analyst, Office of Federal Advisory Committee Policy.

[FR Doc. 2018-15044 Filed 7-12-18; 8:45 am]

BILLING CODE 4140-01-P